SECURITIES AND EXCHANGE COMMISSION

[SEC File No. 270-563, OMB Control No. 3235-0694]

Submission for OMB Review; Comment Request

Upon Written Request, Copies Available From: Securities and Exchange Commission, Office of FOIA Services, 100 F Street NE, Washington, DC 20549-2736

Extension:

Rule 17g-10 and Form ABS Due Diligence—15E

Notice is hereby given that pursuant to the Paperwork Reduction Act of 1995 (44 U.S.C. 3501 et seq.), the Securities and Exchange Commission (“Commission”) is soliciting comments on the collection of information summarized below. The Commission plans to submit an extension for this current collection of information to the Office of Management and Budget for approval.

Rule 17g-10 (17 CFR 240.17g-10) requires a provider of third-party due diligence services to provide the written certification required by Section 15E(s)(4) of the Securities Exchange Act of 1934 (15 U.S.C. 78a et seq.) on Form ABS Due Diligence—15E (17 CFR 249b.500). Based on Commission staff's experience, it is estimated that third-party due diligence service providers would be required to spend, on average, 0.20 hours to complete and transmit Form ABS Due Diligence—15E, for a total annual burden of 470 hours.¹ The cost for a compliance manager to complete and submit Form ABS Due Diligence—15E pursuant to Rule 17g-10 is estimated at $372 per hour,² resulting in an industry-wide annual internal cost to third-party service providers of $175,000 per year.

¹ This figure is calculated by multiplying the per year average number of offerings of asset-backed securities, as the term is defined in Section 3(a)(79) of the Exchange Act, which was estimated at 1,410 offerings, by the hour burden to complete and transmit Form ABS Due Diligence—15E estimated at 0.20 hours (1,410 offerings × 0.20 hours = 470 hours).

² The $372 figure for a compliance manager is based on SIFMA's Management & Professional Earnings in the Securities Industry 2013, modified by Commission staff to account for an 1,800-hour work-year and multiplied by 5.35 to account for bonuses, firm size, employee benefits and overhead, as adjusted for inflation using the Bureau of Labor Statistics' CPI Inflation Calculator.

The public may view background documentation for this information collection at the following website: www.reginfo.gov. Find this particular information collection by selecting “Currently under 30-day Review—Open for Public Comments” or by using the search function. Written comments and recommendations for the proposed information collection should be sent within 30 days of publication of this notice by July 29, 2024 to (i) MBX.OMB.OIRA.SEC_desk_officer@omb.eop.gov and (ii) David Bottom, Director/Chief Information Officer, Securities and Exchange Commission, c/o John Pezzullo, 100 F Street NE, Washington, DC 20549, or by sending an email to: PRA_Mailbox@sec.gov.

Dated: June 24, 2024.
Sherry R. Haywood,
Assistant Secretary.

[FR Doc. 2024-14224 Filed 6-27-24; 8:45 am]

BILLING CODE 8011-01-P